DEPARTMENT OF COMMERCE

International Trade Administration

[A-821-819]

Magnesium Metal from the Russian Federation: Preliminary Results of Antidumping Duty Administrative Review

AGENCY: Import Administration, International Trade Administration, Department of Commerce.

SUMMARY: In response to timely requests, the Department of Commerce (the Department) is conducting an administrative review of the antidumping duty order on magnesium metal from the Russian Federation for the period of review (POR) October 4, 2004 through March 31, 2006. The review covers two respondents, PSC VSMPO-AVISMA Corporation (formerly known as JSC AVISMA Titianium-Magnesium Works, see “Successor-In-Interest” section below) and its affiliated U.S. reseller VSMPO-Tirus, U.S. Inc. (collectively Avisma), and Solikamsk Magnesium Works (SMW).

The Department preliminarily determines that Avisma and SMW made sales to the United States at less than normal value (NV). If these preliminary results are adopted in the final results of this administrative review, we will instruct U.S. Customs and Border Protection (CBP) to assess antidumping duties on entries of Avisma's and SMW's merchandise during the POR. The preliminary results are listed below in the section titled “Preliminary Results of Review.”

EFFECTIVE DATE: May 7, 2007.

FOR FURTHER INFORMATION CONTACT: Gene Calvert or Jun Jack Zhao, AD/CVD Operations, Office 6, Import Administration, International Trade Administration, U.S. Department of Commerce, 14th Street and Constitution Avenue, NW, Washington, DC 20230; telephone: (202) 482-3586 or (202) 482-1396, respectively.

SUPPLEMENTARY INFORMATION:

Background

The Department of Commerce (the Department) published the antidumping duty order on magnesium metal from the Russian Federation on April 15, 2005. See Notice of Antidumping Duty Order: Magnesium Metal from the Russian Federation, 70 FR 19930 (April 15, 2005) (Antidumping Duty Order). On April 3, 2006, the Department published in the Federal Register a notice of “Opportunity to Request Administrative Review” of the antidumping duty order on magnesium metal from the Russian Federation. See Antidumping or Countervailing Duty Order, Finding, or Suspended Investigation; Opportunity to Request Administrative Review, 71 FR 16549 (April 3, 2006). On April 4, 2006 and April 6, 2006, respectively, Avisma and SMW, Russian producers of the subject merchandise, requested that the Department conduct an administrative review. On April 28, 2006, U.S. Magnesium Corporation LLC, petitioner, also requested that the Department conduct an administrative review of Avisma and SMW. On May 31, 2006, the Department published the notice of initiation of the administrative review of the antidumping duty order on magnesium metal from the Russian Federation, for the period October 4, 2004, through March 31, 2006.¹ See Initiation of Antidumping and Countervailing Duty Administrative Reviews and Request for Revocation in Part, 71 FR 30864 (May 31, 2006).

¹ The first administrative review covers approximately an 18-month period from the date of suspension of liquidation (generally the date the preliminary determination in the investigation was published) to the end of the month immediately preceding the anniversary month in which the review was requested. See 19 CFR 351.213(e)(1)(ii).

On June 2, 2006, the Department issued sections A through E of the questionnaire to SMW.² SMW submitted its section A response on July 10, 2006, and submitted its sections B through D response on July 24, 2006. The Department issued a section A through D supplemental questionnaire on September 15, 2006, and SMW responded on October 19, 2006. On December 1, 2006, the Department issued a second section D supplemental questionnaire to SMW; SMW responded on December 29, 2006. Finally, on January 24, 2007, the Department issued a second section A through C supplemental questionnaire to SMW, and SMW responded on February 12, 2007.

² Pursuant to section 733(d) of the Act and the expiration of so called "provisional measures," the Department instructed CBP to discontinue the suspension of liquidation on all shipments entered, or withdrawn from warehouse for consumption on or after April 2, 2005, and to release any securities and refund any cash deposits on such entries. The Department instructed CBP to once again begin suspending liquidation and collecting securities or cash deposits effective April 15, 2005, the date the antidumping duty order on Russian magnesium metal was published in the Federal Register (70 FR 19930). Thus, there are no entries currently suspended or subject to assessment of antidumping duties during this 14-day period of the POR.

On June 2, 2006, the Department issued sections A through D of the questionnaire to Avisma. Avisma submitted its section A questionnaire response on July 10, 2006, and submitted its responses to sections B through D on July 25, 2006. The Department issued a sections A through D supplemental questionnaire on September 15, 2006, and Avisma responded on October 18, 2006. On November 30, 2006, the Department issued a second section D supplemental questionnaire to Avisma; Avisma responded on December 29, 2006. On January 24, 2007, the Department issued a second sections A through C supplemental questionnaire to Avisma, and Avisma responded on February 14, 2007. Finally, on March 29, 2007, the Department issued a third section D supplemental questionnaire, and Avisma responded on April 12, 2007.

On December 13, 2006, the Department extended the deadline for the preliminary results of this antidumping duty administrative review from December 31, 2006 to April 30, 2007. See Notice of Extension of Time Limit for Preliminary Results of Antidumping Duty Administrative Review: Magnesium Metal From the Russian Federation, 71 FR 74897 (December 13, 2006).

Period of Review

This review covers the period October 4, 2004 through March 31, 2006.

Scope of the Order

The merchandise covered by this order is magnesium metal (also referred to as magnesium), which includes primary and secondary pure and alloy magnesium metal, regardless of chemistry, raw material source, form, shape, or size. Magnesium is a metal or alloy containing by weight primarily the element magnesium. Primary magnesium is produced by decomposing raw materials into magnesium metal. Secondary magnesium is produced by recycling magnesium-based scrap into magnesium metal. The magnesium covered by this order includes blends of primary and secondary magnesium.

The subject merchandise includes the following pure and alloy magnesium metal products made from primary and/or secondary magnesium, including, without limitation, magnesium cast into ingots, slabs, rounds, billets, and other shapes, and magnesium ground, chipped, crushed, or machined into raspings, granules, turnings, chips, powder, briquettes, and other shapes: (1) Products that contain at least 99.95 percent magnesium, by weight (generally referred to as “ultra-pure” magnesium); (2) products that contain less than 99.95 percent but not less than 99.8 percent magnesium, by weight (generally referred to as “pure” magnesium); and (3) chemical combinations of magnesium and other material(s) in which the magnesium content is 50 percent or greater, but less that 99.8 percent, by weight, whether or not conforming to an “ASTM Specification for Magnesium Alloy”.

The scope of this order excludes: (1) magnesium that is in liquid or molten form; and (2) mixtures containing 90 percent or less magnesium in granular or powder form by weight and one or more of certain non-magnesium granular materials to make magnesium-based reagent mixtures, including lime, calcium metal, calcium silicon, calcium carbide, calcium carbonate, carbon, slag coagulants, fluorspar, nephaline syenite, feldspar, alumina (Al203), calcium aluminate, soda ash, hydrocarbons, graphite, coke, silicon, rare earth metals/mischmetal, cryolite, silica/fly ash, magnesium oxide, periclase, ferroalloys, dolomite lime, and colemanite.³

³ This second exclusion for magnesium-based reagent mixtures is based on the exclusion for reagent mixtures in the 2000-2001 investigations of magnesium from China, Israel, and Russia. See Notice of Final Determination of Sales at Less Than Fair Value: Pure Magnesium in Granular Form From the People's Republic of China, 66 FR 49345 (September 27, 2001); Notice of Final Determination of Sales at Less Than Fair Value: Pure Magnesium From Israel, 66 FR 49349 (September 27, 2001); Notice of Final Determination of Sales at Not Less Than Fair Value: Pure Magnesium From the Russian Federation, 66 FR 49347 (September 27, 2001). These mixtures are not magnesium alloys, because they are not chemically combined in liquid form and cast into the same ingot.

The merchandise subject to this order is currently classifiable under items 8104.11.00, 8104.19.00, 8104.30.00, and 8104.90.00 of the Harmonized Tariff Schedule of the United States (HTSUS). Although the HTSUS item numbers are provided for convenience and customs purposes, the written description of the merchandise covered by this order is dispositive.

On November 9, 2006, in response to U.S. Magnesium's request for scope rulings, the Department issued final scope rulings in which we determined that the processing of pure magnesium ingots, imported from Russia by Timminco, a Canadian company, into pure magnesium extrusion billets constitutes substantial transformation. Therefore, such alloy magnesium extrusion billets produced and exported by Timminco are a product of Canada, and thus not included within the scope of the order. See November 9, 2006 Memorandum for Stephen J. Claeys, Deputy Assistant Secretary for Import Administration, from Barbara E. Tillman, Director, Office 6, and Wendy Frankel, Director, Office 8, China/NME Group, AD/CVD Operations: Pure Magnesium from the People's Republic of China (A-570-832), Magnesium Metal from the People's Republic of China (A-570-896), and Magnesium Metal from Russia (A-821-819): Final Ruling in the Scope Inquiry on Russian and Chinese Magnesium Processed in Canada.

Succesor-In-Interest

On July 1, 2005, JSC Avisma Titanium-Magnesium Works (ATMW), a respondent in the investigation, merged with VSMPO, a controlling shareholder in ATMW since 1998, forming PSC VSMPO-AVISMA (referred to throughout this notice as “Avisma”), the respondent in this review. Because entries have been made under the name of the new company during the POR, the Department must make a successorship determination in order to apply the appropriate and necessary company-specific cash deposit rates.

In determining whether Avisma is the successor to ATMW for purposes of applying the antidumping duty law, the Department examines a number of factors including, but not limited to, changes in: (1) Management, (2) production facilities, (3) suppliers, and (4) customer base. See, e.g., Brass Sheet and Strip from Canada; Final Results of Antidumping Duty Administrative Review, 57 FR 20460 (May 13, 1992) (Brass from Canada); Steel Wire Strand for Prestressed Concrete from Japan: Final Results of Changed Circumstances Antidumping Duty Administrative Review, 55 FR 28796 (July 13, 1990); and Industrial Phosphoric Acid From Israel; Final Results of Antidumping Duty Changed Circumstances Review, 59 FR 6944 (February 14, 1994). While examining these factors alone will not necessarily provide a dispositive indication of succession, the Department will generally consider one company to have succeeded another if that company's operations are essentially inclusive of the predecessor's operations. See Brass from Canada. Thus, if the evidence demonstrates, with respect to the production and sale of the subject merchandise, that the new company is essentially the same business operation as the former company, the Department will assign the new company the cash deposit rate of its predecessor.

The evidence on the record, particularly Avisma's response to our questionnaire specifically addressing its claimed successorship (Appendix III of the October 19, 2006 supplemental questionnaire response), demonstrates that, with respect to the production and sale of the subject merchandise, Avisma is the successor to ATMW. Specifically, the evidence shows that Avisma uses the same magnesium production facilities (id. at 16), and the same customers and suppliers (except for VSMPO, which previously was both a customer and a supplier), as ATMW had (id. at 16-17). We reviewed Avisma's organizational structure before and after the merger and confirmed that there were only minimal changes. See id. at Exhibit SA-6. Therefore, we preliminary find that Avisma is the successor to ATMW for purposes of this proceeding, and for the application of the antidumping law.

Analysis

Home Market Viability

In order to determine whether there was a sufficient volume of sales in the home market to serve as a viable basis for calculating NV (i.e., the aggregate volume of home market sales of the foreign like product is five percent or more of the aggregate volume of U.S. sales), we compared the volume of each respondent's home market sales of the foreign like product during the POR to the volume of U.S. sales of subject merchandise during the POR. See section 773(a)(1) of the Tariff Act of 1930, as amended (the Act). Based on this comparison, we determined for both Avisma and SMW that the quantity of sales in the home market exceeded five percent of their sales of magnesium to the United States. See 19 CFR 351.404(b).

Product Comparisons

In accordance with section 771(16)(A) of the Act, we considered all products produced by respondents that are covered by the description in the “Scope of the Order” section, above, and that were sold in the home market during the POR, to be foreign like products for purposes of determining appropriate product comparisons to U.S. sales. In accordance with sections 771(16)(B) and (C) of the Act, where there were no sales of identical merchandise in the home market to compare to U.S. sales, we compared U.S. sales to the most similar foreign like product on the basis of the characteristics determined by the Department in the investigation to be the most appropriate for purposes of product matching.

Date of Sale

It is the Department's practice to use invoice date as the date of sale. However, 19 CFR 351.401(i) states that the Secretary may use a date other than the invoice date if the Secretary is satisfied that the material terms of the sale were established on some other date. See Allied Tube and Conduit Corp. v. United States, 127 F. Supp. 2d 207, 217-219 (CIT 2000).

Both Avisma and SMW reported invoice date as the date of sale for all sales in both markets, consistent with our conclusions in the investigation regarding both spot sales and sales made according to short- and long-term agreements. See Magnesium Metal from the Russian Federation: Notice of Final Determination of Sales at Less Than Fair Value, 70 FR 9041 (February 24, 2005), and accompanying Issues and Decision Memorandum at Comment 14. After analyzing the responses of both parties and the sample sales documents provided, we preliminarily determine that invoice date is the appropriate date of sale for all sales under review.

Export Price and Constructed Export Price

In its questionnaire responses, Avisma identified all of its sales to the United States as constructed export price (CEP) sales, except one, which it identified as an export price (EP) sale. With the exception of that one EP sale, all of Avisma's sales are properly classified as CEP sales because they were made for the account of Avisma, by Avisma's U.S. affiliate, VSMPO-Tirus, U.S., Inc. (Tirus US), to unaffiliated purchasers in the United States. U.S. sales to the first unaffiliated party were made in the United States, by the U.S. affiliate, thus satisfying the Department's requirements for treating sales as CEP sales. See section 772(b) of the Act. Avisma and Tirus US are affiliated through common control. See section 771(33)(F) of the Act.

In accordance with section 772(c)(2) of the Act, for Avisma's CEP sales and the single EP sale we made deductions from price for movement expenses and discounts, where appropriate. More specifically, after reviewing the terms of delivery for Avisma's sales to the United States, we deducted early payment discounts, Russian inland freight from plant to port, freight insurance, Russian brokerage, handling, and port charges, international freight and marine insurance, U.S. customs duties, U.S. brokerage, handling, and port charges, and U.S. warehousing and inland freight.

Section 772(d)(1) of the Act provides for additional adjustments to calculate CEP. Accordingly, we deducted direct selling expenses and indirect selling expenses related to commercial activity in the United States. Pursuant to section 772(d)(3) of the Act, we made an adjustment for CEP profit. See Analysis Memorandum for Magnesium Metal from the Russian Federation: PSC VSMPO-AVISMA Corporation (April 30, 2007) (Avisma Analysis Memorandum).

SMW identified all of its U.S. sales as CEP sales in its questionnaire responses. During the POR, all sales of SMW's subject merchandise to the United States were made through its U.S. affiliates, Solimin and Cometals. As in the investigation, we find that Cometals is affiliated with SMW by virtue of an agency agreement, in which Cometals acts as a North American distributor of pure and alloy magnesium products. See section 771(33)(G) of the Act; see also Notice of Final Determination of Sales at Less Than Fair Value: Engineered Process Gas Turbo-Compressor Systems, Whether Assembled or Unassembled, and Whether Complete or Incomplete, from Japan, 62 FR 24394, 24403 (May 5, 1997). We also find that Solimin is affiliated with SMW under section 771(33)(F) of the Act because it is wholly owned and controlled by SMW. All of SMW's sales are properly classified as CEP sales because they were made for the account of SMW, by SMW's U.S. affiliates, Solimin and Cometals, to unaffiliated purchasers in the United States. U.S. sales to the first unaffiliated party were made in the United States, by the U.S. affiliates, thus satisfying the Department's requirements for characterizing sales as CEP sales, pursuant to section 772(b) of the Act.

In accordance with section 772(c)(2) of the Act, for SMW's CEP sales, we made deductions from U.S. price for movement expenses and billing adjustments, where appropriate. More specifically, after reviewing the terms of delivery for SMW's CEP sales to the United States, we deducted Russian inland freight from plant to port, Russian brokerage, handling, and port charges, international freight and insurance, U.S. brokerage, handling, and port charges, U.S. warehousing, U.S. customs duties, and U.S. inland freight.

In accordance with section 772(d)(1) of the Act, we deducted direct selling expenses and indirect selling expenses related to commercial activity in the United States. Pursuant to section 772(d)(3) of the Act, we made an adjustment for CEP profit. See Analysis Memorandum for Magnesium Metal from the Russian Federation: Solikamsk Magnesium Works (April 30, 2007) (SMW Analysis Memorandum).

Normal Value

In accordance with section 773(a)(1)(B)(i) of the Act, we have based NV on the price at which the foreign like product was first sold for consumption in the home market, in the usual commercial quantities, in the ordinary course of trade, and, to the extent practicable, at the same level of trade (LOT) as the EP or CEP sale. See “Level of Trade” section below.

Where appropriate, we determined NV for Avisma and SMW based on home market prices. We did not deduct home market movement expenses, pursuant to section 773(a)(6)(A) of the Act, as both respondents billed their customers separately for these expenses. For SMW, we deducted billing adjustments. As in the U.S. market, Avisma did not have billing adjustments, and neither company had discounts or rebates in the home market. For home market sales compared to Avisma's EP sale, we made circumstances of sale (COS) adjustments for Avisma's transactions reflecting differences between direct selling expenses (credit expense) incurred on domestic (home market) and U.S. sales, in accordance with section 773(a)(6)(C)(iii) of the Act and 19 CFR 351.410. For home market sales compared to CEP sales, we only deducted domestic direct selling expenses from home market price, as U.S. direct selling expenses were deducted from U.S. price, as noted above. We also made adjustments for any differences in packing between domestic and U.S. sales, pursuant to section 773(a)(6)(B)(ii) of the Act, and any differences between the variable costs of the U.S. product and the matching home market product (the “DIFMER” adjustment), pursuant to section 773(a)(6)(C)(ii) of the Act and 19 CFR 351.411.

Section 773(a)(4) of the Act provides that, where NV cannot be based on comparison-market sales, NV may be based on constructed value (CV). Accordingly, for sales of magnesium for which we could not determine the NV based on comparison-market sales, either because there were no useable sales of a comparable product or all sales of the comparable products failed the sales-below-cost test, we based NV on CV. See “Cost of Production Analysis” section below.

Section 773(e) of the Act provides that CV shall be based on the sum of the cost of materials and fabrication for the imported merchandise, plus amounts for selling, general, and administrative expenses (SG&A), interest expense, profit, and U.S. packing costs. We calculated the cost of materials and fabrication based on the methodology described in the “Cost of Production Analysis” section below. We based SG&A, interest expense, and profit on the actual amounts incurred and realized by Avisma and SMW in connection with the production and sale of the foreign like product in the ordinary course of trade for consumption in the comparison market, in accordance with section 773(e)(2)(A) of the Act.

For Avisma's EP sale, we made adjustments to CV for differences in COS in accordance with sections 773(a)(6)(C)(iii) and 773(a)(8) of the Act and 19 CFR 351.410. For CV compared to CEP sales, we only deducted domestic direct selling expenses from home market price, as U.S. direct selling expenses were deducted from U.S. price, as noted above.

Cost of Production Analysis

In accordance with section 773(b)(3) of the Act, we calculated a weighted-average COP based on the sum of the cost of materials and fabrication for the foreign like product, plus amounts for the home market SG&A expenses, interest expense, and packing expenses. We relied on the COP data submitted by Avisma and SMW in their cost questionnaire responses, with the following changes.

We relied upon Avisma's December 29, 2006 cost database, which incorporated the company's revised depreciation expense based on the revaluation of its fixed assets. We revised the reported general and administrative (G&A) and financial expense ratios to reflect the company's fiscal year, rather than the 18 months of the POR. Additionally, we included certain auxiliary services in the G&A expense ratio. See Memorandum to Neal M. Halper, Director, Office of Accounting, through Michael P. Martin, Lead Accountant, from Heidi Schriefer, Senior Accountant, Cost of Production and Constructed Value Calculation Adjustments for the Preliminary Results for Magnesium Metal from the Russian Federation - PSC VSMPO-AVISMA Corporation, dated concurrently with this notice. For SMW, we did not make any adjustments to the cost of production.

Affiliated Party Transactions and Arm's-Length Test

We used sales to affiliated customers in the home market only where we determined such sales were made at arm's-length prices (i.e., at prices comparable to the prices at which the respondent sold identical merchandise to unaffiliated customers). See 19 CFR 351.403(c). To test whether the sales to affiliates were made at arm's-length prices, the Department compares the unit prices of sales to affiliated and unaffiliated customers net of all movement charges, direct selling expenses, discounts and rebates, and packing. See id. In accordance with the Department's practice, if the prices charged to an affiliated party were, on average, between 98 and 102 percent of the prices charged to unaffiliated parties for merchandise identical or most similar to that sold to the affiliated party, we consider the sales to be at arm's-length prices. See 19 CFR 351.403(c); Antidumping Proceedings: Affiliated Party Sales in the Ordinary Course of Trade, 67 FR 69186 (November 15, 2002). Where the affiliated party transactions do not pass the arm's-length test, all sales to that affiliated party are excluded from the NV calculation. When the aggregate volume of the sales to these affiliates that do not pass the arm's-length test is more than 5 percent of total home market sales, we request downstream sales. See 19 CFR 351.403(d). As such, SMW provided downstream sales information for sales to its affiliate, Solikamsk Desulphurizer Works (SZD). For Avisma, all of its sales to affiliates that failed the arm's length test were consumed by the affiliates and incorporated into merchandise that is outside of the scope of the order. Thus, there were no downstream sales to report.

Level Of Trade

Section 773(a)(1)(B)(i) of the Act states that, to the extent practicable, the Department will calculate NV based on sales at the same LOT as the EP or CEP sale. Sales are made at different LOTs if they are made at different marketing stages (or their equivalent). See 19 CFR 351.412(c)(2). Substantial differences in selling activities are a necessary, but not sufficient, condition for determining that there is a difference in the stages of marketing. Id.; see also Notice of Final Determination of Sales at Less Than Fair Value: Certain Cut-to-Length Carbon Steel Plate From South Africa, 62 FR 61731, 61732 (November 19, 1997) (South African Plate Final). In order to determine whether the comparison sales were at different stages in the marketing process than the U.S. sales, we reviewed the distribution system in each market (i.e., the chain of distribution),⁴ including selling functions,⁵ class of customer (customer category), and the level of selling expenses for each type of sale.

Pursuant to section 773(a)(1)(B)(i) of the Act, in identifying levels of trade for EP and comparison market sales (i.e., NV based on either home market or third-country prices), we consider the starting prices before any adjustments. With respect to CEP sales, Micron Technology, Inc. v. United States, 243 F.3d 1301, 1315 (Fed. Cir. 2001), requires the Department to remove the selling activities set forth in section 772(d) of the Act from the CEP starting price prior to performing its LOT analysis. As such, for CEP sales, the U.S. LOT is based on the starting price of the sales, as adjusted under section 772(d) of the Act.

When the Department is unable to match U.S. sales to sales of the foreign like product in the comparison market at the same LOT as the EP or CEP sale, the Department may compare the U.S. sale to sales at a different LOT in the comparison market. However, in this case, the Department preliminarily determines that only one LOT existed in both markets for each respondent, consistent with what the parties reported and with our determination in the investigation. (SMW reported two LOTs in the home market, but one LOT consisted exclusively of sales to an affiliate. These sales were disregarded after failing the arm's length test. The Department determines that the downstream sales reported by SMW are at the same level of trade as the rest of the home market because the functions being performed by the affiliate, SZD, are essentially the same as those performed by SMW.) For further details on the LOT analysis, see Avisma Analysis Memorandum and SMW Analysis Memorandum.

Currency Conversion

For purposes of the preliminary results, in accordance with section 773A of the Act, we made currency conversions based on the official exchange rates in effect on the dates of the U.S. sales as certified by the Federal Reserve Bank of New York.

Preliminary Results of Review

As a result of this review, we preliminarily find that the following weighted-average dumping margins exist:

Manufacturer/Exporter | Margin
PSC VSMPO-AVISMA Corporation | 2.34 %
Solikamsk Magnesium Works | 3.77 %

Cash Deposit Requirements

If these preliminary results are adopted in the final results of review, the following deposit requirements will be effective upon completion of the final results of this administrative review for all shipments of the subject merchandise entered, or withdrawn from warehouse, for consumption on or after the publication of the final results of this administrative review, as provided in section 751(a)(1) of the Act: 1) the cash deposit rate for Avisma will be that established in the final results of this review; 2) the cash deposit rate for SMW will be that established in the final results of this review; 3) for previously reviewed or investigated companies not covered in this review, the cash deposit rate will continue to be the company-specific rate published for the most recent period; 4) if the exporter is not a firm covered in this review, a prior review, or the less-than-fair-value (LTFV) investigation, but the manufacturer is a firm covered in this review, the cash deposit rate will be the rate established for the most recent period for the manufacturer of the subject merchandise; and 5) if neither the exporter nor the manufacturer is a firm covered in this or any previous proceeding conducted by the Department, the cash deposit rate will continue to be the “all others” rate established in the LTFV investigation, which is 21.01 percent. See Antidumping Duty Order. These cash deposit requirements, when imposed, shall remain in effect until further notice.

Duty Assessment

Upon publication of the final results of this review, the Department shall determine, and CBP shall assess, antidumping duties on all appropriate entries. Pursuant to 19 CFR 351.212(b)(1), the Department calculates an assessment rate for each importer of the subject merchandise for each respondent. In accordance with 19 CFR 351.212(b)(1), we will calculate importer-specific ad valorem assessment rates on the basis of the ratio of the total amount of antidumping duties calculated for the examined sales and the total entered value of the examined sales. These rates will be assessed uniformly on all entries of the respective importers made during the POR if these preliminary results are adopted in the final results of review. The Department intends to issue appropriate assessment instructions directly to CBP 15 days after the date of publication of the final results of this review.

The Department clarified its “automatic assessment” regulation on May 6, 2003. See Antidumping and Countervailing Duty Proceedings: Assessment of Antidumping Duties, 68 FR 23954 (May 6, 2003) (Assessment Policy Notice). This clarification will apply to entries of subject merchandise during the period of review produced by companies included in the final results of review for which the reviewed companies did not know that the merchandise it sold to the intermediary (e.g., a reseller, trading company, or exporter) was destined for the United States. In such instances, we will instruct CBP to liquidate unreviewed entries at the all-others rate if there is no rate for the intermediary involved in the transaction. See Assessment Policy Notice for a full discussion of this clarification.

Public Comment

Pursuant to 19 CFR 351.224(b), the Department will disclose to any party to the proceeding the calculations performed in connection with these preliminary results within five days after the date of publication of this notice. Pursuant to 19 CFR 351.309, interested parties may submit written comments in response to these preliminary results. Unless extended by the Department, case briefs are to be submitted within 30 days after the date of publication of this notice. Rebuttal briefs, limited to arguments raised in case briefs, may be submitted no later than five days after the time limit for filing case briefs. Parties who submit arguments in this proceeding are requested to submit with the argument: 1) a statement of the issues; 2) a brief summary of the argument; and 3) a table of authorities. Case and rebuttal briefs must be served on interested parties in accordance with 19 CFR 351.303(f).

Also, pursuant to 19 CFR 351.310(c), within 30 days of the date of publication of this notice, interested parties may request a public hearing on arguments to be raised in the case and rebuttal briefs. Unless the Secretary specifies otherwise, the hearing, if requested, will be held two days after the date for submission of rebuttal briefs. Parties will be notified of the time and location. The Department will publish the final results of this administrative review, including the results of its analysis of issues raised in any case brief, rebuttal brief, or hearing no later than 120 days after publication of these preliminary results, unless extended. See 19 CFR 351.213(h).

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

The preliminary results of this administrative review and this notice are issued and published in accordance with sections 751(a)(1) and 777(i)(1) of the Act.

Dated: April 30, 2007.
David M. Spooner,
Assistant Secretary for Import Administration.

[FR Doc. E7-8688 Filed 5-4-07; 8:45 am]

BILLING CODE 3510-DS-S